DEPARTMENT OF COMMERCE

International Trade Administration

North American Free-Trade Agreement, Article 1904 NAFTA Panel Reviews; Request for Panel Review

AGENCY: NAFTA Secretariat, United States Section, International Trade Administration, Department of Commerce.

ACTION: Notice of first request for panel review.

SUMMARY: On January 18, 2005, the Canadian Lumber Remanufacturer's Alliance (“CLRA”) and its individual members filed a First Request for Panel Review with the United States Section of the NAFTA Secretariat pursuant to Article 1904 of the North American Free Trade Agreement. A second, third, fourth and fifth Request for Panel Review was filed on January 19, 2005 on behalf of the Canfor Corporation and its affiliates Lakeland Mills Ltd. and the Pas Lumber Company Ltd. (collectively “Canfor”); Terminal Forest Products Ltd. (“Terminal”); and on behalf of the Government of Canada, the Governments of the Provinces of Alberta, British Columbia, Manitoba, Ontario, and Saskatchewan, the Gouvernement du Quebec, the Governments of the Northwest Territories and the Yukon Territory, the British Columbia Lumber Trade Council and its constituent associations (the Coast Forest & Lumber Association and the Council of Forest Industries), the Ontario Forest Industries Association, the Ontario Lumber Manufacturers Association, Quebec Lumber Manufacturers Association; Apex Forest Products Inc., Aspen Planers Ltd., Buchanan Lumber Sales, Inc. and the Buchanan affiliated mills, exporters and importers (including Atikokan Forest Products Ltd., Buchanan Forest Products Ltd., Buchanan Northern Hardwoods Inc., Dubreuil Forest Products Limited, Great West Timber Limited, Long Lake Forest Products Inc., McKenzie Forest Products Inc., Nakina Forest Products Limited, Northern Sawmills Inc., Northern Wood, and Solid Wood Products Inc.), Devlin Timber (1992) Ltd., Downie Timber Ltd., Federated Co-operative Limited, Gorman Bros. Lumber Ltd., Haida Forest Products Ltd., Kenora Forest Products Ltd., Lecours Lumber Co. Limited, Liskeard Lumber Limited, Manitou Forest Products Ltd., Manning Diversified Forest Products Ltd., Midway Lumber Mills Ltd., Mill & Timber Products Ltd., Nickel Lake Lumber, North Enderby Timber Ltd., Olav Haavaldsrud Timber Company Limited, Pastway Planing Limited, R. Fryer Forest Products Limited, Selkirk Specialty Wood Ltd., Tembec Inc., Tyee Timber Products Ltd., and West Hastings Lumber Products (hereafter, “the Parties”), respectively. Panel review was requested of the final results of countervailing duty administrative review and rescission of certain company-specific reviews made by the United States Department of Commerce, International Trade Administration, respecting Certain Softwood Lumber Products from Canada. This determination was published in the Federal Register, (69 FR 75917) on December 20, 2004. The determination was amended by Notice of Correction to Final Results on December 27, 2004 , 69 Federal Register 77220. The NAFTA Secretariat has assigned Case Number USA-CDA-2005-1904-01 to this request.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

A first Request for Panel Review was filed with the United States Section of the NAFTA Secretariat, pursuant to Article 1904 of the Agreement, on January 18, 2005, requesting panel review of the final determination described above.

The Rules provide that:

(a) A Party or interested person may challenge the final determination in whole or in part by filing a Complaint in accordance with Rule 39 within 30 days after the filing of the first Request for Panel Review (the deadline for filing a Complaint is February 17, 2005);

(b) A Party, investigating authority or interested person that does not file a Complaint but that intends to appear in support of any reviewable portion of the final determination may participate in the panel review by filing a Notice of Appearance in accordance with Rule 40 within 45 days after the filing of the first Request for Panel Review (the deadline for filing a Notice of Appearance is March 4, 2005); and

(c) The panel review shall be limited to the allegations of error of fact or law, including the jurisdiction of the investigating authority, that are set out in the Complaints filed in the panel review and the procedural and substantive defenses raised in the panel review.

Dated: January 25, 2005.
Caratina L. Alston,
United States Secretary, NAFTA Secretariat.

[FR Doc. 05-1617 Filed 1-27-05; 8:45 am]

BILLING CODE 3510-GT-P